DEPARTMENT OF HEALTH AND HUMAN SERVICES

Centers for Disease Control and Prevention

Disease, Disability, and Injury Prevention and Control Special Emphasis Panel: Occupational Health and Safety Research; NIOSH Exploratory/Developmental Grant Program, and NIOSH Support Conferences and Scientific Meetings, Program Announcements 04-038, 04-030, and 05-005

In accordance with section 10(a)(2) of the Federal Advisory Committee Act (Pub. L. 92-463), the Centers for Disease Control and Prevention (CDC) announces the following meeting:

Name: Disease, Disability, and Injury Prevention and Control Special Emphasis Panel (SEP): Occupational Health and Safety Research; NIOSH Exploratory/Developmental Grant Program, and NIOSH Support Conferences and Scientific Meetings, Program Announcements 04-038, 04-030, and 05-005.

Times and Dates: 1 p.m.-5 p.m., June 30, 2005 (Closed).

Place: Teleconference—Centers for Disease Control and Prevention/National Institute for Occupational Safety and Health, 24 Executive Park Drive, NE., Room 1419, Atlanta, GA 30329, Telephone (404) 498-2556.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of applications received in response to Occupational Health and Safety Research; NIOSH Exploratory/Developmental Grant Program, and NIOSH Support Conferences and Scientific Meetings, Program Announcements 04-038, 04-030, and 05-005.

Contact Person for More Information: Pam Wilkerson, MPA, Scientific Review Administrator, National Institute for Occupational Safety and Health, CDC, 24 Executive Park Drive, NE., MS E-74, Atlanta, GA 30329, Telephone (404) 498-2556.

The Director, Management Analysis and Services Office, has been delegated the authority to sign Federal Register notices pertaining to announcements of meetings and other committee management activities, for both CDC and the Agency for Toxic Substances and Disease Registry.

Dated: May 27, 2005.
Alvin Hall,
Director, Management Analysis and Services Office, Centers for Disease Control and Prevention.

[FR Doc. 05-11158 Filed 6-3-05; 8:45 am]

BILLING CODE 4163-18-P